DEPARTMENT OF ENERGY

Federal Energy Regulatory Commission

[Project No. 13318-018]

Swan Lake North Hydro LLC; Notice of Intent To Prepare an Environmental Assessment

On April 12, 2024, as supplemented on October 3, 2024, Swan Lake North Hydro LLC. filed an application for Non-Capacity Amendment of License for the Swan Lake North Pumped Storage Hydroelectric Project No. 13318. The unconstructed project will be located about 11 miles northeast of the city of Klamath Falls in Klamath County, Oregon. The project will occupy Federal land administered by the U.S. Bureau of Land Management and the U.S. Bureau of Reclamation.

The licensee proposes to amend project to replace the three authorized 131.1 megawatt (MW) turbine generating units with two 182.4 MW units; modify the location and size of the powerhouse; reduce the size of the spillways; lower the bottom elevation of the powerhouse, upper and lower reservoirs, and water conveyance structures; bury the authorized surface-mounted penstocks; realign a portion of the transmission line; modify the project boundary; and modify construction materials used for the reservoir embankments and liners, among other modifications.

On October 30, 2024, the Commission issued a public notice for the proposed amendment. On November 22 and November 25, 2024, the Oregon Department of Environmental Quality and Oregon Department of Fish and Wildlife, respectively, filed motions to intervene in the proceeding.

This notice identifies Commission staff's intention to prepare an environmental assessment (EA) for the project.¹ Commission staff plans to issue an EA by September 12, 2025. Revisions to the schedule may be made as appropriate. The EA will be issued for a 30-day comment period. All comments filed on the EA will be reviewed by staff and considered in the Commission's final decision on the proceeding.

¹ In accordance with the Council on Environmental Quality's regulations, the unique identification number for documents relating to this environmental review is EAXX-019-20-000-1734453403. 40 CFR 1501.5(c)(4) (2024).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Elizabeth Moats at 202-502-6632 or Elizabeth.OsierMoats@ferc.gov.

Dated: December 20, 2024.
Debbie-Anne A. Reese,
Secretary.

[FR Doc. 2024-31332 Filed 12-27-24; 8:45 am]

BILLING CODE 6717-01-P